DEPARTMENT OF COMMERCE

Foreign-Trade Zones Board

[B-27-2018]

Foreign-Trade Zone (FTZ) 81—Portsmouth, New Hampshire; Authorization of Production Activity; Albany Safran Composites LLC; (Carbon Fiber Composite Aircraft Engine Parts); Rochester, New Hampshire

On April 6, 2018, Albany Safran Composites LLC (ASC), submitted a notification of proposed production activity to the FTZ Board for its facility within FTZ 81, in Rochester, New Hampshire. There is an application pending for FTZ designation at the ASC facility under FTZ 81 (FTZ Docket S-97-2018).

The notification was processed in accordance with the regulations of the FTZ Board (15 CFR part 400), including notice in the Federal Register inviting public comment (83 FR 17644, April 23, 2018). On August 6, 2018, the applicant was notified of the FTZ Board's decision that no further review of the activity is warranted at this time. The production activity described in the notification was authorized, subject to the FTZ Act and the FTZ Board's regulations, including Section 400.14.

Dated: August 8, 2018.
Elizabeth Whiteman,
Acting Executive Secretary.

[FR Doc. 2018-17415 Filed 8-13-18; 8:45 am]

BILLING CODE 3510-DS-P